DEPARTMENT OF ENERGY

Office of Fossil Energy

[Docket Nos. FE C&E 01-59, C&E 01-60, C&E 01-61, C&E 01-62, C&E 01-63, and C&E 01-64]

Certification Notice—199; Notice of Filings of Coal Capability of Goldendale Energy, Inc., Channel Energy Center, L.P., Morgan Energy Center, LLC, Decatur Energy Center, LLC, Delta Energy Center, LLC, and Calpine Construction Finance Company, L.P.

AGENCY: Office of Fossil Energy, Department of Energy.

ACTION: Notice of filing.

SUMMARY: Goldendale Energy, Inc., Channel Energy Center, L.P., Morgan Energy Center LLC, Decatur Energy Center, LLC, Delta Energy LLC, Calpine Construction Finance Company, L.P., and Ontario Power Generation, Inc. submitted coal capability self-certifications pursuant to section 201 of the Powerplant and Industrial Fuel Use Act of 1978, as amended.

ADDRESSES: Copies of self-certification filings are available for public inspection, upon request, in the Office of Coal & Power Im/Ex, Fossil Energy, Room 4G-039, FE-27, Forrestal Building, 1000 Independence Avenue, SW., Washington, DC 20585.

FOR FURTHER INFORMATION CONTACT: Ellen Russell at (202) 586-9624.

SUPPLEMENTARY INFORMATION: Title II of the Powerplant and Industrial Fuel Use Act of 1978 (FUA), as amended (42 U.S.C. 8301 et seq.), provides that no new baseload electric powerplant may be constructed or operated without the capability to use coal or another alternate fuel as a primary energy source. In order to meet the requirement of coal capability, the owner or operator of such facilities proposing to use natural gas or petroleum as its primary energy source shall certify, pursuant to FUA section 201(d), to the Secretary of Energy prior to construction, or prior to operation as a base load powerplant, that such powerplant has the capability to use coal or another alternate fuel. Such certification establishes compliance with section 201(a) as of the date filed with the Department of Energy. The Secretary is required to publish a notice in the Federal Register that a certification has been filed. The following owners/operators of the proposed new baseload powerplants have filed a self-certification in accordance with section 201(d).

Owner: Goldendale Energy, Inc. (C&E 01-59).

Operator: Goldendale Energy, Inc.

Location: Klickitat County, WA.

Plant Configuration: Combined-cycle.

Capacity: 244 MW.

Fuel: Natural gas.

Purchasing Entities: Various public and private utilities in the open market.

In-Service Date: July, 2002.

Owner: Channel Energy Center, L.P. (C&E 01-60).

Operator: Calpine Central, L.P.

Location: Houston, TX.

Plant Configuration: Combined-cycle.

Capacity: 537 MW.

Fuel: Natural gas.

Purchasing Entities: The region of the Electric Reliability Council of Texas.

In-Service Date: June, 2001.

Owner: Morgan Energy Center, LLC (C&E 01-61).

Operator: Calpine Central, L.P.

Location: Morgan County, AL.

Plant Configuration: Combined-cycle.

Capacity: 700 MW.

Fuel: Natural gas.

Purchasing Entities: 160 MW to Amoco Energy Trading Corp; 540 MW to Tennessee Valley Authority wholesale power market.

In-Service Date: Initial operation June 1, 2002; Full commercial operation January 1, 2003.

Owner: Decatur Energy Center, LLC (C&E 01-62).

Operator: Calpine Central, L.P.

Location: Morgan County, AL.

Plant Configuration: Combined-cycle.

Capacity: 700 MW.

Fuel: Natural gas.

Purchasing Entities: 140 to Solutia, Inc; 560 MW to Tennessee Valley Authority wholesale power market.

In-Service Date: June 1, 2002.

Owner: Delta Energy Center, LLC (C&E 01-63).

Operator: Delta Energy Center, LLC.

Location: Contra Costa County, CA.

Plant Configuration: Combined-cycle.

Capacity: 880 MW.

Fuel: Natural gas.

Purchasing Entities: Calpine Energy Services, L.P.

In-Service Date: April 2002.

Owner: Calpine Construction Finance Company, L.P. (CE 01-64).

Operator: Calpine Eastern Corporation.

Location: Tallapoosa County, AL.

Plant Configuration: Combined-cycle.

Capacity: 800 MW.

Fuel: Natural gas.

Purchasing Entities: Wholesale power market.

In-Service Date: April 2003.

Issued in Washington, DC, May 9, 2001.
Anthony J. Como,
Deputy Director, Electric Power Regulation, Office of Coal & Power Im/Ex, Office of Coal & Power Systems, Office of Fossil Energy.

[FR Doc. 01-12187 Filed 5-14-01; 8:45 am]

BILLING CODE 6450-01-P